NATIONAL FOUNDATION ON THE ARTS AND THE HUMANITIES

Institute of Museum and Library Services

Sunshine Act Meeting of the National Museum and Library Services Board

AGENCY: Institute of Museum and Library Services (IMLS), NFAH.

ACTION: Notice of meeting.

SUMMARY: The National Museum and Library Services Board, which advises the Director of the Institute of Museum and Library Services on general policies with respect to the duties, powers, and authority of the Institute relating to museum, library and information services, will meet on June 2, 2016.

DATES: Thursday, June 2, 2016, from 9:00 a.m. to 11:30 a.m. EDT.

ADDRESSES: Place: The meeting will be held at the IMLS Offices, Panel Room, Suite 4000, 955 L'Enfant Plaza North, SW., Washington, DC 20024.

FOR FURTHER INFORMATION CONTACT: Katherine Maas, Program Specialist, Institute of Museum and Library Services, Suite 4000, 955 L'Enfant Plaza North, SW., Washington, DC 20024. Telephone: (202) 653-4676. Please provide advance notice of any special needs or accommodations.

SUPPLEMENTARY INFORMATION: Status: The meeting will be open to the public.

Agenda: Thirty-third Meeting of the National Museum and Library Services Board Meeting:

I. Welcome and Director's Report

II. Approval of the Minutes

III. Financial and Operations Update

IV. Office of Communications and Government Affairs Update

V. Digital and Information Strategy Update Break.

VI. Office of Museum Services Update

VII. Office of Library Services Update

VIII. Question and Answer Session

Dated: May 5, 2015.
Andrew Christopher,
Associate General Counsel.

[FR Doc. 2016-11234 Filed 5-9-16; 4:15 pm]

BILLING CODE 7036-01-P